DEPARTMENT OF ENERGY

Assistance to Foreign Atomic Energy Activities; Secretarial Determination

AGENCY: National Nuclear Security Administration (NNSA), Department of Energy (DOE).

ACTION: Notice.

SUMMARY: On December 29, 2022, the Secretary of Energy (Secretary) issued a determination revoking the general authorizations for exports of controlled nuclear technology and assistance to Colombia and Egypt under DOE's regulation on Assistance to Foreign Atomic Energy Activities. Accordingly, DOE is publishing this determination.

FOR FURTHER INFORMATION CONTACT: Ms. Katie Strangis, Deputy Director, Office of Nonproliferation and Arms Control (NPAC), National Nuclear Security Administration, Department of Energy, 1000 Independence Avenue SW, Washington, DC 20585, telephone (202) 586-8623; Mr. Thomas Reilly, Office of the General Counsel, GC-74, Department of Energy, 1000 Independence Avenue SW, Washington, DC 20585, telephone (202) 586-3417; or Mr. Zachary Stern, Office of the General Counsel, National Nuclear Security Administration, Department of Energy, 1000 Independence Avenue SW, Washington, DC 20585, telephone (202) 586-8627.

SUPPLEMENTARY INFORMATION: On December 29, 2022, the Secretary issued a determination revoking the general authorizations for exports to Colombia and Egypt of controlled nuclear technology and assistance. The text of the determination is reprinted below. The Atomic Energy Act of 1954, as amended (42 U.S.C. 2077) (AEA), enables peaceful nuclear trade by helping to assure that nuclear technologies exported from the United States will not be used for non-peaceful purposes.

Part 810 of title 10, Code of Federal Regulations (part 810) implements section 57 b.(2) of the AEA, pursuant to which the Secretary has granted a general authorization for certain categories of activities which the Secretary has found to be non-inimical to the interest of the United States—including assistance or transfers of technology to the “generally authorized destinations” listed in appendix A to part 810. Section 810.10 authorizes the Secretary to revoke any general or specific authorization.

Signing Authority

This document of the Department of Energy was signed on January 25, 2023, by Katie D. Strangis, Deputy Director, Office of Nonproliferation and Arms Control, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on January 26, 2023.
Treena V. Garrett,
Federal Register Liaison Officer, U.S. Department of Energy.

Appendix

Set forth below is the full text of the Secretarial Determination:

Determination and Revocation of General Authorizations Pursuant to Department of Energy Regulations at 10 CFR Part 810 Regarding Exports of Nuclear Technology and Assistance to Colombia and Egypt

Having considered the Department of Energy's National Nuclear Security Administration (DOE/NNSA) recommendation of revocation, I have determined pursuant to 10 CFR 810.10(c) that general authorizations for exports of Part 810—controlled nuclear technology and assistance to Colombia and Egypt no longer meet the non-inimicality standard specified in section 57 b.(2) of the Atomic Energy Act of 1954, as amended.

Whether a destination is determined to be generally or specifically authorized depends on a number of factors, including the existence of a bilateral peaceful nuclear cooperation agreement (“123 agreement”) with the United States. The U.S.-Colombia 123 Agreement expired on September 17, 2013. The U.S.-Egypt 123 Agreement expired on December 31, 2021. In the absence of 123 agreements with Colombia and Egypt, I have determined that the general authorizations for exports of Part 810—controlled nuclear technology and assistance to Colombia and Egypt no longer meet the non-inimicality standard.

I therefore revoke the general authorizations for exports to Colombia and Egypt of Part 810—controlled nuclear technology and assistance, in accordance with 10 CFR 810.10.

Accordingly, as of the date on which this determination is issued, all exports of Part 810-controlled nuclear technology and assistance to Colombia and Egypt that are not eligible for a general authorization listed in 10 CFR 810.6(b)-(g) shall require specific authorization pursuant to 10 CFR 810.7(a).

Persons engaging in activities that were previously generally authorized before the date of this determination, but that require specific authorization following the revocation of the general authorizations for Colombia and Egypt, must request specific authorization within 30 days of publication of this determination in the Federal Register, and may continue their activities until DOE acts on the request.

Date: December 29, 2022.
Jennifer Granholm,
Secretary of Energy.

[FR Doc. 2023-01958 Filed 1-30-23; 8:45 am]

BILLING CODE 6450-01-P